STATE JUSTICE INSTITUTE

SJI Board of Directors Meeting, Notice

AGENCY: State Justice Institute.

ACTION: Notice of meeting.

SUMMARY: The SJI Board of Directors will be meeting on Monday, December 9, 2013 at 1:00 p.m. The meeting will be held at the 9th Judicial Circuit of Florida in Orlando, Florida. The purpose of this meeting is to consider grant applications for the 1st quarter of FY 2013, and other business. All portions of this meeting are open to the public.

ADDRESSES: 9th Judicial Circuit of Florida, Orange County Court Building, 425 N. Orange Blvd., Judicial Conference Room, 23rd Floor.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2013-27933 Filed 11-20-13; 8:45 am]

BILLING CODE P